DEPARTMENT OF TRANSPORTATION

Federal Motor Carrier Safety Administration

[Docket No. FMCSA-2019-0255]

Agency Information Collection Activities; Renewal of an Approved Information Collection: Training Certification for Drivers of Longer Combination Vehicles

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for approval and invites public comment. FMCSA requests approval to renew the ICR titled “Training Certification for Drivers of Longer Combination Vehicles (LCVs),” OMB Control No. 2126-0026. This ICR relates to Agency requirements for drivers to be certified to operate LCVs, and associated reporting and recordkeeping requirements that motor carriers must satisfy before permitting their drivers to operate LCVs. Motor carriers, upon inquiry by authorized Federal, State or local officials, must produce an LCV Driver-Training Certificate for each of their LCV drivers.

DATES: Please send your comments by May 21, 2020. OMB must receive your comments by this date in order to act on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ms. Pearlie Robinson, Driver and Carrier Operations Division, DOT, FMCSA, West Building 6th Floor, 1200 New Jersey Avenue SE, Washington, DC 20590. Telephone: 202-366-4325. Email: MCPSD@dot.gov.

SUPPLEMENTARY INFORMATION: Title: Training Certification for Drivers of LCVs.

OMB Control Number: 2126-0026.

Type of Request: Renewal and correction of a currently-approved information collection.

Respondents: LCV training providers who train new LCV drivers; drivers who complete LCV training each year; current LCV drivers who submit their LCV Driver-Training Certificate to prospective employers; and employers (motor carriers) receiving and maintaining copies of the LCV Driver-Training certificates of their drivers.

Estimated Number of Respondents: 50,708, consisting of 218 LCV training providers, plus 218 newly-certified LCV drivers, plus 25,027 currently-certified LCV drivers seeking new employment, plus 25,245 motor carriers hiring certified and newly-certified LCV drivers seeking new employment.

Estimated Time per Response: 10 minutes for training providers to prepare LCV Driver-Training Certificates for drivers who successfully complete the LCV training; 5 minutes for newly-certified drivers, as well as 5 minutes for currently-certified drivers, to provide LCV Training Certification documents to motor carriers; and 5 minutes for motor carriers to retain the LCV training certifications.

Expiration Date: May 31, 2020.

Frequency of Response: On occasion.

Estimated Total Annual Burden: 4,244 hours. The total number of drivers who will be subjected to these requirements each year is 25,245, which consists of 218 newly-certified LCV drivers seeking employment, and 25,027 currently-certified LCV drivers obtaining new employment. Also, there are 218 LCV training providers who will be required to prepare the training certificates for newly-certified drivers. Additionally, there are 25,245 (218 + 25,027) motor carriers who will hire the drivers. The total annual information collection burden is approximately 4,244 hours = 36 hours for preparation of LCV Driver-Training Certificates [218 training providers prepare certificates for drivers successfully completing training × 10 minutes ÷ 60 minutes/hour] + 18 hours for newly-certified LCV drivers to provide certification documents to motor carriers [218 drivers × 5 minutes ÷ 60 minutes/hour] + 2,086 hours for currently-certified LCV drivers to provide certification documents to motor carriers [25,027 drivers × 5 minutes ÷ 60 minutes/hour] + 2,104 hours for currently-certified LCV drivers to provide certification documents to motor carriers [25,245 drivers × 5 minutes ÷ 60 minutes/hour].

Estimated Total Cost to Respondents: $135,734.

Background

An LCV is any combination of a truck-tractor and two or more semi-trailers or trailers that operates on the National System of Interstate and Defense Highways (according to 23 CFR 470.107) and has a gross vehicle weight greater than 80,000 pounds. To enhance the safety of LCV operations on our Nation's highways, Section 4007(b) of the Motor Carrier Act of 1991 directed the Secretary of Transportation to establish Federal minimum training requirements for drivers of LCVs [Intermodal Surface Transportation Efficiency Act of 1991 (ISTEA), Pub. L. 102-240, 105 Stat. 1914, 2152]. The Secretary of Transportation delegated responsibility for establishing these requirements to FMCSA (49 CFR 1.87), and on March 30, 2004, after appropriate notice and solicitation of public comment, FMCSA established the current training requirements for operators of LCVs (69 FR 16722). The regulations bar motor carriers from permitting their drivers to operate an LCV if they have not been properly trained in accordance with the requirements of 49 CFR 380.113. Drivers receive an LCV Driver-Training Certificate upon successful completion of these training requirements. Motor carriers employing an LCV driver must verify the driver's qualifications to operate an LCV, and must maintain a copy of the LCV Driver-Training Certificate and present it to authorized Federal, State, or local officials upon request.

Renewal of This Information Collection (IC)

The currently approved burden hour estimate associated with this IC, approved by OMB on May 19, 2017, is 5,565 hours. The Agency requests a reduction in the burden hour estimates from 5,565 hours to 4,244 hours. The reduction in burden hour estimates and costs is the result of correcting an error; the incorrect growth rate from the Bureau of Labor Statistics was previously used to estimate the number of new drivers requiring LCV driver training certificates. As a result, FMCSA over-estimated the number of new drivers, annual burden hours, hours for preparing training certificates, number of drivers who undergo the hiring process, number of respondents, number of responses, and costs to respondents.

Separately, the currently approved version of this IC incorrectly accounted for LCV driver training costs, estimated to be $7,035,160 annually. Training is not considered to be an information collection burden. For this updated version of the ICR, the Agency is removing the costs associated with training. Instead, FMCSA has calculated the labor costs associated with the LCV driver training recordkeeping requirements. The annual cost burden is estimated to be $135,734.

The expiration date of the current ICR is May 31, 2020. Through this request, FMCSA requests a renewal of the paperwork burden associated with the ICR titled “Training Certification for Drivers of Longer Combination Vehicles (LCVs),” OMB Control No. 2126-0026. This ICR corrects and updates all of the affected areas, as shown in the table below.

Estimate | Current approved IC | Proposed updated IC | Difference
Number of Drivers Engaged in the Operation of LCVs in the U.S. | 44,095 | 38,503 | (5,592)
Total Annual Burden | 5,565 | 4,244 | (1,321)
Number of New Drivers | 2,360 | 218 | (2,142)
Number of Hours for Preparing Training Certificates | 394 | 36 | (358)
Number of Drivers Who Undergo Hiring Process | 31,022 | 25,245 | (5,777)
Number of Respondents | 59,684 | 50,708 | (8,976)
Number of Responses | 59,684 | 50,708 | (8,976)
Labor Costs to Respondents | $0 | $135,734 | $135,734
Annual Costs to Respondents | $7,035,160 | $0 | ($7,035,160)

On December 18, 2019, FMCSA published a Federal Register notice allowing for a 30-day comment period on this ICR. There were no comments submitted to the docket in response to that notice.

Public Comments Invited:

You are asked to comment on any aspect of this information collection, including: (1) Whether the proposed collection is necessary for FMCSA's performance; (2) the accuracy of the estimated burden; (3) ways for FMCSA to enhance the quality, usefulness, and clarity of the collected information; and (4) ways that the burden could be minimized without reducing the quality of the collected information. The Agency will summarize or include your comments in the request for OMB's clearance of this information collection.

Issued under the authority of 49 CFR 1.87.
Kenneth Riddle,
Acting Associate Administrator for Registration and Research.

[FR Doc. 2020-08358 Filed 4-20-20; 8:45 am]

BILLING CODE 4910-EX-P